INTERNATIONAL TRADE COMMISSION

[Inv. No. 337-TA-531]

In the Matter of Certain Network Controllers and Products Containing Same; Notice of Decision Not To Review an Initial Determination Granting Complainant's Motion To Amend the Complaint and Notice of Investigation

AGENCY: U.S. International Trade Commission.

ACTION: Notice.

SUMMARY: Notice is hereby given that the U.S. International Trade Commission has determined not to review an initial determination (“ID”) issued by the presiding administrative law judge (“ALJ”) on April 12, 2005, granting complainant's motion to amend the complaint and notice of investigation.

FOR FURTHER INFORMATION CONTACT: Michael Liberman, Esq., Office of the General Counsel, U.S. International Trade Commission, 500 E Street, SW., Washington, DC 20436, telephone (202) 205-3115. Copies of the public version of the IDs and all nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS) at http://edis.usitc.gov.

SUPPLEMENTARY INFORMATION: On January 19, 2005, the Commission instituted an investigation under section 337 of the Tariff Act of 1930, 19 U.S.C. 1337, based on a complaint filed by Marvell International, Ltd. of Hamilton, Bermuda, (“Marvell”) alleging a violation of section 337 in the importation, sale for importation, and sale within the United States after importation of certain network controllers and products containing same by reason of infringement of claims 68, 70, and 71 of U.S. Patent No. 6,462,688, and claims 22-32, 54, and 55 of U.S. Patent No. 6,775,529. 70 FR 31844 (January 19, 2005). The complainant named Realtek Semiconductor Corporation of Hsinchu, Taiwan, and Real Communications, Inc., of San Jose, CA (collectively, “Realtek”), as respondents.

On March 31, 2005, complainant Marvell moved to amend the complaint and notice of investigation to add an additional respondent, Bizlink Technology, Inc. On April 11, 2005, the Commission investigative attorney filed a response in support of the motion. On the same day, respondents Realtek filed a response in opposition to the motion.

On April 12, 2005, the presiding ALJ issued an ID (Order No. 5) granting complainant's motion. No party petitioned for review of the ALJ's ID.

The authority for the Commission's determination is contained in section 337 of the Tariff Act of 1930, as amended (19 U.S.C. 1337), and in section 210.42 of the Commission's Rules of Practice and Procedure (19 CFR 210.42).

By order of the Commission.
Issued: May 3, 2005.
Marilyn R. Abbott,
Secretary to the Commission.

[FR Doc. 05-9134 Filed 5-5-05; 8:45 am]

BILLING CODE 7020-02-P